DEPARTMENT OF STATE

[Public Notice 4486]

Bureau of Economic and Business Affairs; Advisory Committee on International Communications and Information Policy Meeting Notice

The Department of State announces that the next meeting of its Advisory Committee on International Communications and Information Policy (ACICIP) will be held on October 29, 2003 from 10 a.m. to 12 p.m. in Room 1107 of the Harry S. Truman Building of the U.S. Department of State. The Truman Building is located at 2201 C Street, NW., Washington, DC 20520.

The Committee provides a formal channel for the regular consultation and coordination on major economic, social, and legal issues and problems in international communications and information policy.

Ambassador David A. Gross, U.S. Coordinator for International Communications and Information Policy, will attend the meeting along with others from the Office of International Communications and Information Policy at the Department of State. Items on the agenda will include communications policy issues, future directions of the Committee's work, discussion regarding countries of particular interest to the ACICIP, preparations for the World Summit on the Information Society, and consultation regarding the most important emerging technologies.

Members of the public may attend the meeting up to the seating capacity of the room. While the meeting is open to the public, admittance to the Department of State building is only by means of a pre-arranged clearance list. In order to be placed on the pre-clearance list, those interested in attending must provide name, title, affiliation, social security number, date of birth and citizenship to John Finn at finnjw@state.gov no later than 5 p.m. on Monday, October 27. All attendees must enter by the 23rd Street Entrance. One of the following valid ID's will be required for admittance: any U.S. driver's license with photo, a passport, or a U.S. government agency ID. For security reasons, all non-U.S. government attendees must be escorted by Department of State personnel at all times when in the building.

For further information please contact John Finn, Executive Secretary of the Committee at (202) 647-5306 or at finnjw@state.gov.

Dated: October 3, 2003.
John W. Finn,
Executive Secretary, Advisory Committee on International Communications and Information Policy, Department of State.

[FR Doc. 03-25781 Filed 10-9-03; 8:45 am]

BILLING CODE 4710-07-P